DEPARTMENT OF HEALTH AND HUMAN SERVICES

Administration for Children and Families

[CFDA Number: 93.592]

Announcing the Award of a Single-Source Program Expansion Supplement Grant to Casa de Esperanza in St. Paul, MN

AGENCY: Family and Youth Services Bureau, ACYF, ACF, HHS.

ACTION: Notice of the award of a single-source program expansion supplement grant under the Family Violence Prevention and Services Act (FVPSA) Technical Assistance (TA) Project to Casa de Esperanza to support training and technical assistance activities.

SUMMARY: The Administration for Children and Families (ACF), Administration on Children, Youth and Families (ACYF), Family and Youth Services Bureau (FYSB), Division of Family Violence and Prevention Services (DFVPS) announces the award of $125,000 as a single-source program expansion supplement to the Casa de Esperanza in St. Paul, MN. The grantee, funded under the Family Violence Protection and Services Act (FVPSA) program, is a national technical assistance (TA) provider that assists FVPSA service providers to build the capacity of domestic violence programs to respond to the complex and diverse needs of survivors of domestic violence and dating violence from Latino communities.

DATES: The period of support for the single-source program expansion supplement is September 30, 2015 through September 29, 2016.

FOR FURTHER INFORMATION CONTACT: Seema Zeya, Program Specialist, Family Violence Prevention and Services Program, 1250 Maryland Avenue SW., Suite 8220, Washington, DC 20024. Telephone: 202-205-7889; Email: Seema.Zeya@acf.hhs.gov.

SUPPLEMENTARY INFORMATION: Supplemental award funds will support the grantee in providing training and technical assistance to domestic violence service providers.

This award will expand the scope of Casa de Esperanza's technical assistance activities to include supplemental activities around the issue of trafficking for domestic violence programs which may involve activities, such as:

• Training on the intersections of domestic violence, sexual violence, and trafficking including, but not limited to, webinars;

• Listening sessions with FVPSA grantees and culturally-specific community-based organizations regarding needs, challenges, and barriers related to offering trafficking services (i.e., online, via phone, or in person);

• Documentation of current promising practices for serving survivors of trafficking within domestic violence programs and within culturally-specific community-based organizations (i.e., program profiles, a case study, online page);

• Development of a technical assistance plan for fostering and sustaining collaborative partnerships on domestic violence and human trafficking which could include a pilot with 1-2 communities;

• Resource development: Factsheets or concept brief paper on the intersection of domestic violence and human trafficking with recommendations to enhance the provision of direct services for victims; facilitating stronger multidisciplinary partnerships; or culturally/trauma-informed programming.

In addition, the grantee will support and provide training around the issue of language access planning for domestic violence programs for activities, including:

• State-specific training and technical assistance for the 20 State Domestic Violence Coalitions that completed the 2015 Training of Trainers which will include travel to deliver state-specific training;

• Listening sessions with FVPSA state administrators, coalitions, and culturally-specific community based organizations;

• Documentation of the technical assistance needs, implementation successes, and implementation challenges of 20 states beginning language access planning and working to improve language accessibility within their states; and

• Recommendations for state-specific capacity building for the 20 states to enhance statewide language access, including the development of language access plans.

Federal staff conducted an objective review of the solicited application using criteria related to the project's approach, its organizational capacity, and the projected budget for proposed costs in assessing the application.

Statutory Authority: Section 310 of the Family Violence Prevention and Services Act, as amended by Section 201 of the CAPTA Reauthorization Act of 2010, Pub. L. 111-320.

Christopher Beach,
Senior Grants Policy Specialist, Division of Grants Policy, Office of Administration.

[FR Doc. 2016-01326 Filed 1-22-16; 8:45 am]

BILLING CODE 4184-32-P